DEPARTMENT OF ENERGY

Proposed Agency Information Collection

AGENCY: U.S. Department of Energy.

ACTION: Notice and request for OMB review and request for comments.

SUMMARY: The Department of Energy (DOE) has submitted an information collection request to the Office of Management and Budget (OMB) for extension under the provisions of the Paperwork Reduction Act of 1995. The information collection requests a three-year extension of its Loan Guarantees for Projects that Employ Innovative Technologies, OMB Control Number 1910-5134. The proposed collection will request information necessary to evaluate applications for loan guarantees submitted under Title XVII of the Energy Policy Act of 2005, as amended. Applications for loan guarantees submitted to DOE in response to a solicitation must contain certain information. This information will be used to analyze whether a project is eligible for a loan guarantee and to evaluate the application under criteria specified in DOE's regulations implementing Title XVII.

DATES: Comments regarding this collection must be received on or before October 13, 2016.

ADDRESSES: Written comments should be sent to the DOE Desk Officer, Office of Information and Regulatory Affairs, Office of Management and Budget, New Executive Office Building, Room 10102, 735 17th Street NW., Washington, DC 20503.

FOR FURTHER INFORMATION CONTACT: Requests for additional information or copies of the information collection instrument and instructions should be directed to Mark S. Westergard, LPO.PaperworkReductionAct.Comments@hq.doe.gov.

SUPPLEMENTARY INFORMATION: This information collection request contains: (1) OMB No.: 1910-5134; (2) Information Collection Request Title: 10 CFR part 609—Loan Guarantees for Projects that Employ Innovative Technologies; (3) Type of Request: Extension; (4) Purpose: This information collection package covers collection of information necessary to evaluate applications for loan guarantees submitted under Title XVII of the Energy Policy Act of 2005, as amended, 42 U.S.C. 16511-16516. Applications for loan guarantees submitted to DOE in response to a solicitation must contain certain information. This information will be used to analyze whether a project is eligible for a loan guarantee and to evaluate the application under criteria specified in 10 CFR part 609; (5) Annual Estimated Number of Respondents: 100 Applications; (6) Annual Estimated Number of Total Responses: It is estimated that the total number of annual responses will not exceed 100; (7) Annual Estimated Number of Burden Hours: 13,000 hours, most of which is likely to be time committed by firms that seek debt and/or equity financing for their projects, regardless of their intent to apply for a DOE loan guarantee; (8) Annual Estimated Reporting and Recordkeeping Cost Burden: It is estimated that the annual estimated reporting and recordkeeping cost burden for applicants will not exceed $25,000 per annum.

Statutory Authority: Title XVII of the Energy Policy Act of 2005 42 U.S.C. 16511-16516 authorizes the collection of information.

Issued in Washington, DC on September 7, 2016.
Mark A. McCall,
Executive Director, Department of Energy Loan Programs Office.

[FR Doc. 2016-21961 Filed 9-12-16; 8:45 am]

BILLING CODE 6450-01-P